Title 3—

The President

Proclamation 7308 of May 15, 2000

National Defense Transportation Day and National

Transportation Week, 2000

By the President of the United States of America

A Proclamation

Throughout the past century, America's national transportation system has played a crucial role in strengthening our economy, protecting our safety, and improving the quality of life for all Americans. Interconnecting networks of railroads, ports, and waterways have transported millions of passengers and billions of dollars' worth of freight. Our national highway system connected cities to rural communities and people to jobs. The Wright Brothers' invention of the airplane gave birth to a world-class aviation system that revolutionized travel, created new industries, and brought the nations of the world closer. The quality and versatility of all these modes of transportation gave our Nation a powerful defense tool as well, enabling us to move troops and materiel swiftly and efficiently in times of conflict and crisis. Now, as we begin a new century, our national transportation system must embrace exciting new possibilities and new challenges.

One of the most important of those challenges is safety. Advances in technology offer us great hope for progress in reducing accidents and fatalities. For example, the Federal Aviation Administration is working in partnership with the airline industry, pilots, technicians, and air traffic controllers to use improved forecasting and new communications technology to detect severe weather sooner, to let pilots and passengers know promptly about anticipated delays, and to centralize air traffic decisionmaking during severe storms in order to reduce delays. Automobile manufacturers are also using new technologies and design innovations—from stronger metals to new safety lights to advanced brake technology—to prevent accidents and save lives.

Another of our great transportation challenges is to develop alternative fuels and clean energy sources that will not harm our environment. Earlier this year, I signed an Executive Order to ensure the Federal Government's leadership in reducing petroleum consumption and promoting the use of alternative fuel vehicles (AFVs). By developing and using AFVs, we can reduce greenhouse gases and other pollutants, enhance our Nation's energy self-sufficiency by reducing the demand for imported oil, and create new products and jobs.

If we make wise and informed choices today and in the years to come, we can make our communities more livable, give our citizens greater choice and mobility, protect our environment, and help create a truly global community. The 20th century was indeed a golden age for transportation; the 21st century can be an even brighter one.

In recognition of the importance of our Nation's transportation system to our national security and economic health, and in honor of the many dedicated men and women who have ensured its continued excellence through the years, the United States Congress, by joint resolution approved May 16, 1957 (36 U.S.C. 120), has designated the third Friday in May of each year as “National Defense Transportation Day” and, by joint resolution approved May 14, 1962 (36 U.S.C. 133), declared that the week during which that Friday falls be designated “National Transportation Week.”

NOW, THEREFORE, I, WILLIAM J. CLINTON, President of the United States of America, do hereby proclaim Friday, May 19, 2000, as National Defense Transportation Day and May 14 through May 20, 2000, as National Transportation Week. I urge all Americans to observe these occasions with appropriate ceremonies, programs, and activities.

IN WITNESS WHEREOF, I have hereunto set my hand this fifteenth day of May, in the year of our Lord two thousand, and of the Independence of the United States of America the two hundred and twenty-fourth.

wj

[FR Doc. 00-12807

Filed 5-18-00; 8:45 am]

Billing code 3195-01-P